DEPARTMENT OF TRANSPORTATION

Surface Transportation Board

[STB Finance Docket No. 35249]

Kern W. Schumacher—Continuance in Control Exemption—Grenada Railway, LLC and Natchez Railway, LLC

Correction

In notice document E9-12366 beginning on page 25798 in the issue of Friday, May 29, 2009, make the following correction:

On page 25799, in the first column, under DEPARTMENT OF TRANSPORTATION, in the first paragraph, lines 3-5 of the text, “603.0, at Water Valley Junction, MS, and milepost 614.42, at Bruce Junction, MS” should read “603.0, at Bruce Junction, MS, and milepost 614.42, at Water Valley Junction, MS”.

Dated: June 8, 2009.
Kulunie L. Cannon,
Clearance Clerk.

[FR Doc. E9-13747 Filed 6-10-09; 8:45 am]

BILLING CODE 4915-01-P